DEPARTMENT OF HEALTH AND HUMAN SERVICES

Administration for Children and Families

Agency Recordkeeping/Reporting Requirements Under Emergency Review by the Office of Management and Budget (OMB)

Title: Interim Final Rule for the Reauthorization of the Temporary Assistance for Needy Families Program.

OMB No.: New Collection.

Description: The Interim Final Rule for the Reauthorization of the Temporary Assistance for Needy Families Program imposes some new requirements and replaces others. They are:

• A new requirement that States establish documentation, verification and internal control procedures to ensure valid work-participation rates, based on regulatory specifications. States will be required to submit the procedures to the Department of Health and Human Services no later than September 30, 2006. The Administration for Children and Families (ACF) will review the procedures and approve them if they meet the requirements. If the procedure fail to address or meet the requirements, States will be given 60 days to revise and correct them. If a State fails to establish, submit or correct the procedures within specified timeframes, the State will be liable for a full five percent penalty for the year.

• A modification/reduction and replacement of the predecessor caseload reduction credit information collection based on the recalibration of the caseload reduction credit.

• A modification and replacement of the predecessor reasonable cause/corrective compliance information collection based on the requirements of the participation rate verification procedures.

• A modification and replacement of the predecessor TANF Data Report and the SSP-MOE Data Report based on how we define work-eligible individuals, especially with regard to child-only cases.

Respondents: The 50 States of the United States, the District of Columbia, Guam, Puerto Rico, and the Virgin Islands.

Annual Burden Estimates
Instrument | Number of respondents | Number of responses per respondent | Average burden hours per response | Total burden hours
Preparation and Submission of Data Verification Procedures—§ 261.60-§ 261.63 | 54 | 1 | 640 | 34,560
Caseload Reduction Documentation Process, ACT-202—§ 261.41 & § 261.44 | 54 | 1 | 120 | 6,480
Reasonable Cause/Corrective Compliance Documentation Process—§ 262.4, 262.6, & 262.7; § 261.51 | 54 | 2 | 240 | 25,920
TANF Data Report—Part 265 | 54 | 4 | 2,193 | 473,688
SSP-MOE Data Report—Part 265 | 29 | 4 | 714 | 82,824
Estimated Total Annual Burden Hours |  |  |  | 623,472

Additional Information: ACF is requesting that OMB grant a 180-day approval for this information collection under procedures for emergency processing by June 28, 2006. A copy of this information collection, with applicable supporting documentation, may be obtained by calling the Administration for Children and Families, Reports Clearance Officer, Robert Sargis at (202) 690-7275. E-mail address: rsargis@acf.hhs.gov.

Comments and questions about the information collection described above should be directed to the following address by June 28, 2006: Office of Information and Regulatory Affairs, Office of Management and Budget, Paperwork Reduction Project, Desk Officer for ACF, E-mail address: Katherine_T._Astrich@omb.eop.gov.

Dated: May 30, 2006.
Robert Sargis,
Reports Clearance Officer.

[FR Doc. 06-5116 Filed 6-5-06; 8:45 am]

BILLING CODE 4184-01-M